NATIONAL COMMISSION ON LIBRARIES AND INFORMATION SCIENCE

The Sunshine Act Meeting

Monday, April 10, 2000-1:00-4:00 p.m.

1110 Vermont Avenue, NW, 8th floor, Washington, DC

DISCUSSION TOPIC

“Digital Divide” and the Role of the Commission

Tuesday, April 11, 2000—8:30 a.m.-4:30 p.m.

1110 Vermont Avenue, NW, 8th floor, Washington, DC.

MATTERS TO BE DISCUSSED

Administrative matters

Chairperson's report

Executive Director's report

Strategic planning for the Commission

NCLIS 30th anniversary celebration

NCLIS Program/committee updates

Sister Libraries, A White House Millennium Council Project

Update, The future of the National Technical Information Service

To request further information or to make special arrangements for persons with disabilities, contact Barbara Whiteleather (telephone: 202-606-9200; fax: 202-606-9203; e-mail: bwhiteleather@nclis.gov) no later than one week in advance of the meeting.

Dated: March 23, 2000.
Robert S. Willard,
NCLIS Executive Director.

[FR Doc. 00-7859 Filed 3-27-00; 2:00 pm]

BILLING CODE 7527-$$-M